DEPARTMENT OF THE INTERIOR

Bureau of Ocean Energy Management

[Docket No. BOEM-2024-0054]

Notice of Availability of a Record of Decision for Expected Wind Energy Development in the New York Bight

AGENCY: Bureau of Ocean Energy Management, Interior.

ACTION: Notice of availability; record of decision.

SUMMARY: The Bureau of Ocean Energy Management (BOEM) announces the availability of the record of decision (ROD) based on the final programmatic environmental impact statement (PEIS) that analyzed the potential impacts of wind energy development in six lease areas of the New York (NY) Bight. The ROD outlines BOEM's decision to identify certain avoidance, minimization, mitigation, and monitoring (AMMM) measures that BOEM plans to apply as conditions of approval for activities proposed by NY Bight lessees in their construction and operations plans (COPs). This ROD concludes the programmatic National Environmental Policy Act (NEPA) process for the six NY Bight lease areas.

ADDRESSES: The ROD and associated information are available on the NY Bight website at: https://www.boem.gov/renewable-energy/state-activities/new-york-bight.

FOR FURTHER INFORMATION CONTACT: Jill Lewandowski, BOEM Office of Environmental Programs, 45600 Woodland Road, VAM-OEP, Sterling, Virginia 20166, (703) 787-1703 or jill.lewandowski@boem.gov.

SUPPLEMENTARY INFORMATION: The Proposed Action for the final PEIS was the identification of specific AMMM measures at the programmatic stage that could avoid, minimize, mitigate, or monitor impacts. The final PEIS analyzed the potential impacts of development in the NY Bight area and how those impacts can be avoided, minimized, or mitigated by AMMM measures. The Proposed Action does not itself require any actions by BOEM or lessees. A notice of availability for the final PEIS was published in the Federal Register on October 25, 2024 at 89 FR 85233.

Each lease holder is likely to submit at least one COP, as required under 30 CFR 585.600(a). The programmatic analysis in the final PEIS follows the execution of the six NY Bight leases and precedes the environmental analysis of the COPs. The PEIS serves as a first-tier document that the second-tier project-specific environmental analysis of each COP may tier from or incorporate by reference (40 CFR 1501.11-12).

This ROD identifies 58 AMMM measures that BOEM plans to apply as conditions of approval for activities proposed by the lessees in their COPs submitted for the six NY Bight lease areas. The subsequent project-specific NEPA analyses and consultations could also incorporate revised, additional, or different AMMM measures as needed.

After carefully considering public comments on the draft PEIS and the alternatives described and analyzed in the final PEIS, DOI selected Sub-alternative C1: Identification of AMMM Measures at the Programmatic Stage: Previously Applied Measures. This is the Preferred Alternative identified in the final PEIS. The AMMM measures are included in appendix B of the ROD, which is available at: https://www.boem.gov/renewable-energy/state-activities/new-york-bight.

Authority: National Environmental Policy Act of 1969, as amended, (42 U.S.C. 4321 et seq.); 40 CFR 1505.2.

Karen Baker,
Chief, Office of Renewable Energy Programs Bureau of Ocean Energy Management.

[FR Doc. 2024-28553 Filed 12-5-24; 8:45 am]

BILLING CODE 4340-98-P